DEPARTMENT OF ENERGY

Federal Energy Regulatory Commission

[Docket No. EL21-13-000]

Californians for Green Nuclear Power, Inc. v. North American Electric Reliability Corporation, Western Electricity Coordinating Council, California Independent System Operator Corporation, California Public Utilities Commission California State Water Resources Control Board, California State Lands Commission; Notice of Amended Complaint

Take notice that on November 25, 2020, pursuant to the Federal Power Act, the Natural Gas Act of 1938, the Federal Pipeline Safety Regulations,¹ and section 206 of the Rules of Practice and Procedure of the Federal Energy Regulatory Commission,² Californians for Green Nuclear Power, Inc. (Complainant) filed an amended complaint, amending its October 26, 2020 formal complaint against North American Electric Reliability Corporation, Western Electricity Coordinating Council, California Independent System Operator Corporation, California Public Utilities Commission, California State Water Resources Control Board, and California State Lands Commission, (Respondent) alleging that, Respondents failed to properly analyze the bulk electric system and bulk natural gas system consequences in light of certain California-specific hazards in connection with the approval of the voluntary plan to close Diablo Canyon Power Plant in 2025, all as more fully explained in the complaint.

¹ The Federal Power Act, 16 U.S.C. 791 et seq., the Energy Policy Act of 2005, 42 U.S.C. 13201 et seq. (2005), the Natural Gas Act of 1938 15 U.S.C. 717(b) et seq., and Federal Pipeline Safety Regulations, 49 CFR 192 (2020).

² 18 CFR 385.206 (2020).

The Complainant certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on December 15, 2020.

Dated: November 30, 2020.
Kimberly D. Bose,
Secretary.

[FR Doc. 2020-26711 Filed 12-3-20; 8:45 am]

BILLING CODE 6717-01-P